DEPARTMENT OF JUSTICE

Notice of Lodging of Proposed Consent Decree Under the Comprehensive Environmental Response, Compensation and Liability Act (CERCLA).

On April 17, 2013, the Department of Justice lodged a proposed Consent Decree with the United States District Court for the Eastern District of Texas in the lawsuit entitled United States and State of Texas v. City of Port Arthur, Texas, et al., Civil Action No. 1:13-cv-00235.

The United States filed this lawsuit under the Comprehensive Environmental Response, Compensation and Liability Act (CERCLA). The Complaint, jointly filed by the United States and the State of Texas, names the City of Port Arthur, Texas; American Commercial Barge Line LLC; E.I. du Pont de Nemours & Company; Huntsman Petrochemical Corporation; Kirby Corporation; Kirby Inland Marine, LP; Phillips 66 Company; Port Neches Towing, Inc.; and Sabine Towing and Transportation Co. Inc., as defendants. The complaint requests recovery of costs that the United States and the State of Texas incurred responding to releases of hazardous substances at the State Marine Superfund Site near the city of Port Arthur, Texas. These nine defendants (“Settling Defendants”) signed the consent decree. Collectively, the Settling Defendants agreed to pay $1,029,000 of the United States' response costs (and $70,000 of the State's response costs). In return, the United States agrees not to sue the Settling Defendants under sections 106 and 107 of CERCLA or under section 7003 of the Resource Conservation and Recovery Act. The consent decree also includes a finding that Settling Defendants are entitled to protection from contribution actions or claims as provided by CERCLA Section 113(f)(2), 42 U.S.C. § 9613(f)(2), for “matters addressed” in the consent decree. With certain exceptions, the consent decree defines “matters addressed” in the consent decree to be all response actions taken or to be taken and all response costs incurred or to be incurred, at or in connection with the State Marine Site, by the United States, the State of Texas, or any other person.

The publication of this notice opens a period for public comment on the consent decree. Comments should be addressed to the Assistant Attorney General, Environment and Natural Resources Division, and should refer to United States and State of Texas v. City of Port Arthur, Texas et al., D.J. Ref. No. 90-11-3-09504/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $9.00 (25 cents per page reproduction cost) payable to the United States Treasury.

Maureen Katz,
Assistant Section Chief, Environmental Enforcement Section, Environment and Natural Resources Division.

[FR Doc. 2013-09500 Filed 4-22-13; 8:45 am]

BILLING CODE 4410-15-P